DEPARTMENT OF THE INTERIOR

Bureau of Indian Affairs

[212D0102DR/DS5A300000/DR.5A311.IA000118]

Native American Business Development Institute (NABDI) Grant; Solicitation of Proposals

AGENCY: Bureau of Indian Affairs (BIA), Interior.

ACTION: Notice.

SUMMARY: The Office of Indian Energy and Economic Development (OIED), through its Native American Business Development Institute (NABDI), is soliciting grant proposals from eligible federally recognized Tribes and Tribal organizations. NABDI award funding will be used to explore economic development opportunities through feasibility studies and business plans. Feasibility studies may concern the viability of an economic development project or business, or the practicality of a technology, that a Tribe may choose to pursue to explore how a current Tribal business or enterprises could recover from and adapt to the challenges resulting from the COVID-19 pandemic. Business plans may concern goals for economic opportunity and recovery from the impacts of the COVID-19 pandemic.

DATES: Applications will be accepted until 5 p.m. ET on Monday, June 27, 2022. OIED will not consider proposals received after this time and date.

ADDRESSES: The required method of submitting proposals is through Grants.gov. For information on how to apply for grants in Grants.gov, see the instructions available at https://www.grants.gov/help/html/help/Applicants/HowToApplyForGrants.htm. Proposals must be submitted to Grants.gov by the deadline established in the DATES section.

FOR FURTHER INFORMATION CONTACT: Mr. Dennis Wilson, Grant Management Specialist, Office of Indian Economic Development, telephone: (505) 917-3235; email: dennis.wilson@bia.gov. If you have questions regarding the application process, please contact Ms. Jo Ann Metcalfe, Grant Officer, telephone (401) 703-3390; email jo.metcalfe@bia.gov. Individuals in the United States who are deaf, deafblind, hard of hearing, or have a speech disability may dial 711 (TTY, TDD, or TeleBraille) to access telecommunications relay services. Additional Program information can be found at https://www.bia.gov/service/grants/nabdi.

SUPPLEMENTARY INFORMATION:

I. General Information

II. Number of Projects Funded

III. Background

IV. Eligibility for Funding

V. Who May Perform Feasibility Studies Funded by NABDI Grants?

VI. Applicant Procurement Procedures

VII. Limitations

VIII. NABDI Application Guidance

IX. Mandatory Components

X. Incomplete Applications

XI. Review and Selection Process

XII. Evaluation Criteria

XIII. Transfer of Funds

XIV. Reporting Requirements for Award Recipients

XV. Conflicts of Interest

XVI. Questions and Requests for OIED Assistance

XVII. Paperwork Reduction Act

XVIII. Authority

I. General Information.

Award Ceiling: $75,000.

Award Floor: $25,000.

CFDA Number: 15.032.

Cost Sharing or Matching Requirement: No.

Number of Awards: 20 to 35.

Category: Business Development.

II. Number of Projects Funded. OIED anticipates awarding approximately 20 to 35 grants under this announcement ranging in value from approximately $25,000 to $75,000. The program can fund projects only one year at a time. OIED will use a competitive evaluation process for awarding based on criteria described in the Review and Selection Process Section of this notice. Only one application will be accepted from an eligible Tribe, and only one application will be accepted from an eligible Tribal Organization of that Tribe.

III. Background. The Office of the Assistant Secretary—Indian Affairs, through OIED, is soliciting proposals from federally recognized Tribes listed as Indian Entities Recognized by and Eligible to Receive Services from the United States Bureau of Indian Affairs at 87 FR 4636 (January 28, 2022) and Tribal Organizations eligible for NABDI grants. Indian Tribes are referred to using the term “Tribe” throughout this notice. Tribal Organization is defined by 25 U.S.C. 5304(l). Consultants may include, but are not limited to universities and colleges, private consulting firms, and non-academic non-profit entities. The feasibility studies will help facilitate informed decision-making regarding Tribes' economic futures. Feasibility studies may concern the viability of an economic development project or business, or the practicality of a technology, that a Tribe may choose to pursue to explore how a current Tribal business or enterprises could recover and adapt to the challenges resulting from the COVID-19 pandemic. NABDI awards may be used to develop business plans for eligible applicant's goals for economic opportunity and recovery, such as the economic impacts of the COVID-19 pandemic. The OIED administers this program through its Division of Economic Development (DED).

The funding periods and amounts referenced in this solicitation are subject to the availability of non-recurring appropriation funds of the BIA budget at the time of award, as well as the Department of the Interior (DOI) and Indian Affairs priorities at the time of the award. Neither DOI nor Indian Affairs will be held responsible for proposal or application preparation costs. Publication of this solicitation does not obligate DOI or Indian Affairs to award any specific grant or to obligate all or any part of available funds. Future funding is subject to the availability of appropriations and cannot be guaranteed. DOI or Indian Affairs may cancel or withdraw this solicitation at any time.

IV. Eligibility for Funding. The Office of the Assistant Secretary—Indian Affairs, through OIED, is soliciting proposals from federally recognized Tribes listed as Indian Entities Recognized by and Eligible to Receive Services from the United States Bureau of Indian Affairs at 87 FR 4636 (January 28, 2022) and Tribal Organizations eligible for NABDI grants. Indian Tribes are referred to using the term “Tribe” throughout this notice. Tribal Organization is defined by 25 U.S.C. 5304(l).

V. Who may Perform Feasibility Studies or Develop Business Plans Funded by NABDI Grants? The applicant determines who will conduct its feasibility study or business plan. An applicant has several choices, including but not limited to:

• Universities and colleges;

• Private consulting firms; or

• Non-academic, non-profit entities.

VI. Applicant Procurement Procedures. The applicant is subject to the procurement standards in 2 CFR 200.318 through 200.326. In accordance with 2 CFR 200.318, an applicant must use its own documented procurement procedures which reflect Tribal laws and regulations, provided that the procurements conform to applicable Federal law and standards.

VII. Limitations. NABDI grant funding must be expended in accordance with applicable statutory and regulatory requirements, including 2 CFR part 200. As part of the grant application review process, OIED may conduct a review of an applicant's prior OIED grant awards(s).

Applicants that are currently under BIA sanction Level 2 or higher resulting from non-compliance with the Single Audit Act are ineligible for a NABDI award. Applicants at Sanction Level 1 will be considered for funding.

Only one application will be accepted from an eligible Tribe, and only one application will be accepted from an eligible Tribal Organization of that Tribe. Applications should address one project and any submissions that contain multiple project proposals will not be considered. OIED will apply the same objective ranking criteria to each proposal.

The purpose of NABDI grants is to fund feasibility studies and business plans for proposed economic development projects, businesses, technologies and for businesses recovering from the effects of the COVID-19 pandemic. An application can request funding for a feasibility study or a business plan.

NABDI awards may not be used for:

• Establishing or operating a Tribal Office;

• Indirect costs or administrative costs as defined by the Federal Acquisition Regulation (FAR);

• Purchase of equipment that is used to develop the feasibility studies, such as computers, vehicles, field gear, etc. (however, leasing of this type of equipment for the purpose of developing feasibility studies is allowed);

• Creating Tribal jobs to complete the project. A NABDI grant is not intended to create temporary administrative jobs or supplement employment for Tribal members;

• Legal fees;

• Application fees associated with permitting;

• Training;

• Contract negotiation fees;

• Feasibility studies of energy, mineral, energy legal infrastructure, or broadband related projects, businesses, or technologies that are addressed by OIED's Energy and Mineral Development Program (EMDP), Tribal Energy Development Capacity (TEDC); and

• Any other activities not authorized by the grant award letter.

VIII. NABDI Application Guidance. All applications must be submitted in digital form to grants.gov. For instructions, see https://www.grants.gov/help/html/help/Applicants/HowToApplyForGrants.htm.

IX. Mandatory Components. The mandatory components, and forms identified below, must be included in the proposal package. Links to the mandatory forms can be found under the “Related Package” tab on the NABDI FY2022 grant opportunity page at www.grants.gov. Any information in the possession of the BIA or submitted to the BIA throughout the process, including final work product, constitutes government records and may be subject to disclosure to third parties under the Freedom of Information Act (FOIA), 5 U.S.C. 552, and the Department of the Interior's FOIA regulations at 43 CFR part 2, unless a FOIA exemption or exception applies, or other provisions of law protect the information. Following are the names of the required forms:

• Cover Page

• Application for Federal Assistance (SF-424) [V4.0]

• Cover Letter

• Project Abstract Summary [V2.0]

• Project Narrative Attachment Form [V1.2]

• Budget Information for Non-Construction Programs (SF-424A) [V1.0]

• Attachments [V1.2]

• Key Contacts [V2.0]

Cover Page: A Cover Page must be included in the application and contain the following:

• Category of Funding for the NABDI application.

• Proposal Title.

• Total Amount of funding requested from the Program.

• Full and Proper Name of the applicant organization.

• Statement confirming the proposed work will have the potential to reach the intended goals and objectives.

• Confirm active registration in SAM, attaching print-out from sam.gov to the cover page. See instructions and registration instructions in Appendix.

• Provide active enrollment in ASAP and your Recipient ID with the BIA. Allow 3-4 weeks to complete all steps of enrollment prior to submission deadline. The organization must be enrolled in ASAP with BIA, current enrollment with other federal agencies is not sufficient. See instructions and registration instructions in Appendix.

• Confirmation of other completed Mandatory Components identified in this section (SF-424, Project Abstract Summary, etc).

• Identification of partnerships such as Tribes, other Tribal Organizations or Entities.

Application for Federal Assistance SF-424

Applicants are required complete the Application for Federal Assistance SF-424.

Please use a descriptive file name that includes tribal name and project description. For example: NABDISF424.Tribalname.Project. The SF-424 form requires the Congressional District number of the applicant, which can be found at https://www.house.gov/reprentatives/find-your-representative.

Cover Letter: A cover letter is not to exceed one (1) page that summarizes the interest and intent, complete with authorized signature(s) of organization leadership.

Project Abstract Summary and Project Narrative Attachment

The first paragraph of the project narrative must include the title and basic description of the proposed feasibility study or business plan. The Project Narrative must not exceed 15 pages. Supplemental information such as letters of support, graphs, charts, maps, photographs and other graphic and/or other relevant information may be included in an appendix and not counted against the 15-page Project Narrative Limit. At a minimum, it should include:

• A technical description of the project and, if applicable, an explanation of how the proposed study or business plan would benefit the applicant and does not duplicate previous work;

• A description of the project objectives and goals;

• Deliverable products that the consultant is expected to generate, including interim deliverables (such as status reports and technical data to be obtained) and final deliverables (the feasibility study or business plan); and

• Resumes of key consultants and personnel to be retained, if available, and the names of subcontractors, if applicable. This information may be included as an attachment to the application and will not be counted towards the 15-page limitation.

• Please use a descriptive file name that includes tribal name and project description. For example: NABDINarrative.Tribalname.Project.

In addition, unless prohibited by tribal procurement procedures, please include a description of the consultant(s) the applicant wishes to retain, including the consultant's contact information, technical expertise, training, qualifications, and suitability to undertake the feasibility study. These documents may be included at the end of the Project Narrative and will not be counted toward the 15-page limitation.

Project Narratives are not judged based on their length. Please do not submit any attachments or documents beyond what is listed above, e.g., Tribal history, unrelated photos and maps.

Budget Information for Non-Construction Programs (SF-424A) [V1.0] and Budget Narrative Attachment Form [V1.2]

Applicants are required to utilize the SF-424A for the budget submission. Please use a descriptive file name that includes tribal name and project description. For example: NABDIBudget.Tribalname.Project. The budget must identify the amount of grant funding requested and a comprehensive breakdown of all projected and anticipated expenditures, including contracted personnel fees, consulting fees (hourly or fixed), travel costs, data collection and analysis costs, computer rentals, report generation, drafting, advertising costs for a proposed project and other relevant project expenses, and their subcomponents.

• Travel costs should be itemized by airfare, vehicle rental, lodging, and per diem, based on the current Federal government per diem schedule.

• Data collection and analysis costs should be itemized in sufficient detail for the OIED review committee to evaluate the charges.

• Other expenses may include computer rental, report generation, drafting, and advertising costs for a proposed project.

Attachments [V1.2]

Utilize the attachments form to include the Tribal resolution issued in the fiscal year of the grant application, authorizing the submission of a NABDI 2022 grant application. It must be signed by authorized Tribal representative(s). The Tribal resolution must also include a description of the feasibility study or business plan to be developed. An application submitted without a Tribal Resolution will be considered incomplete. The attachments form can also be used to include any other attachments related to the proposal.

Required Grantee Travel and Attendance at a Business Development Annual Grantee Meeting

Grantees will be required to have two individuals who work directly on the project attend an in-person annual DOI/OIED-sponsored grantee 3-day meeting in Washington, DC, during the year of the grant award. Applicants must include costs in the budget to cover this requirement. Travel costs must not exceed $6,000 per person. Applicants should follow their own travel policies to budget for this 3-day meeting. Additional funds for these expenses will not be available once grant is awarded. In the event the meeting is converted to a virtual meeting due to timing or COVID related issues, those funds may be repurposed in the grant.

Special Notes

Please make sure that the System for Award Management (SAM) number used to apply is active, not expired, with a current Unique Entity Identifier (UEI) number on the SF-424.

Please make sure an active Automated Standard Application for Payment (ASAP) number is provided. Applicants must have an ASAP number and be enrolled with the BIA to be eligible.

Please list counties where the project is located and congressional district number where the project will be located.

Key Contacts

Applicants must include a critical information page that includes:

• Please use a descriptive file name that includes tribal name and identifies it is the critical information page (CIP). For example: NABDICIP.Tribalname.Project

• Project Manager's contact information including address, email, desk, and cell phone number;

• Please make sure the System for Award Management (SAM) number used to apply is active, not expired, with a current UEI number on the SF-424;

• Please make sure an active Automated Standard Application for Payment (ASAP) number is provided. Applicants must have an ASAP number for the BIA to be eligible;

• Please list the county(ies) where the project is located and congressional district number(s) where the project is located.

X. Incomplete Applications. Incomplete applications will not be accepted. Please ensure that all forms listed in the announcement are completed and submitted in grants.gov.

XI. Review and Selection Process. Upon receiving a NABDI application, OIED will determine whether the application is complete and that the proposed project does not duplicate or overlap previous or currently funded OIED technical assistance projects. Any proposal that is received after the date and time in the DATES section of this notice will not be reviewed.

The OIED Review Committee, comprised of OIED staff, staff from other Federal agencies, and subject matter experts, will evaluate the proposals against the ranking criteria. Proposals will be evaluated using the four ranking criteria listed below, with a maximum achievable total of 100 points.

Final award selections will be approved by the Assistant Secretary—Indian Affairs and the Associate Deputy Secretary, U.S. Department of the Interior. Applicants not selected for award will be notified in writing.

XII. Evaluation Criteria.

Proposals will be formally evaluated by an OIED review committee using the five criteria listed below. Each criterion provides a percentage of the total maximum rating of 100 points:

The Project's Economic Benefits: 50 points.

Project Deliverables: 20 Points.

Feasibility Process and Analysis: 10 points.

Costs of Proposal: 10 points.

Specificity: 10 points.

The Project's Economic Benefits: 50 Points

The reviewers will determine if the proposal's scope of work clearly states the opportunity to be studied. Factors that the reviewers will consider when awarding points are, but not limited to:

• Does the proposal describe how the project will potentially stimulate economic development?

• Does the proposal describe the benefits the project would have if implemented?

• Does the proposal include information how the project will reduce joblessness and stimulate economic activity within a Native community?

• Does the proposal describe the economic development challenges and how the study will address those conditions?

• Does the proposal describe if the applicant has the financial resources to conduct the study absent NABDI grant assistance?

Project Deliverables: 20 Points

The reviewers will determine if the proposal describes in detail applicable proposed deliverables. For example, a hotel feasibility study would include deliverables such as, but not limited to, site analysis, market demographics, drive-time market, regional competition, market demands, and a financial model that includes investment and return on investment projections.

Project Tasks and Timeline: 10 Points

The reviewers will determine if a comprehensive timeline has been developed to address tasks that are needed to successfully complete the objectives outlined in the scope of work.

Costs of Proposal/Budget: 10 Points

The reviewers will assess the costs listed in the budget to determine if the overall value of the project is competitively priced and in accordance with the goals stated within the proposal/scope of work.

Specificity: 10 Points

The reviewers understand applicants may retain consultant(s) that prepare the NABDI proposal to also conduct the feasibility study if the grant is awarded. This does not prejudice an applicant's chances of being selected as a grantee. However, the Committee will view unfavorably proposals that show little evidence of communication between the consultant(s) and the applicant or scant regard for the applicant community's unique circumstances. Facsimile applications prepared by the same consultant(s) and submitted by multiple applicants will receive scrutiny in this regard.

XIII. Transfer of Funds. OIED's obligation under this solicitation is contingent on receipt of congressionally appropriated funds. No liability on the part of the U.S. Government for any payment may arise until funds are made available to the awarding officer for this grant and until the recipient receives notice of such availability, to be confirmed in writing by the grant officer.

All payments under this agreement will be made by electronic funds transfer through the ASAP. All award recipients are required to have a current and accurate UEI number to receive funds. All payments will be deposited to the banking information designated by the applicant in the System for Award Management (SAM).

XIV. Reporting Requirements for Award Recipients. The applicant must deliver all products and data required by the Grant Agreement for the proposed NABDI feasibility study and business plan project to OIED within 30 days of the end of each reporting period and 120 days after completion of the project. The reporting periods will be established in the terms and conditions of the final award.

OIED requires that deliverable products be provided in digital format and submitted in the GrantSolutions system. Reports can be provided in either Microsoft Word or Adobe Acrobat PDF format. Spreadsheet data can be provided in Microsoft Excel, Microsoft Access, or Adobe PDF formats. All vector figures should be converted to PDF format. Raster images can be provided in PDF, JPEG, TIFF, or any of the Windows metafile formats. The contract between the grantee and the consultant conducting the NABDI funded feasibility study must include deliverable products and require that the products be prepared in the format described above.

The contract should include budget amounts for all printed and digital copies to be delivered in accordance with the grant agreement. In addition, the contract must specify that all products generated by a consultant belong to the grantee and cannot be released to the public without the grantee's written approval. Products include, but are not limited to, all reports and technical data obtained, maps, status reports, and the final report.

In addition, this funding opportunity and financial assistance award must adhere to the following provisions.

XV. Conflicts of Interest.

Applicability

• This section intends to ensure that non-Federal entities and their employees take appropriate steps to avoid conflicts of interest in their responsibilities under or with respect to Federal financial assistance agreements.

• In the procurement of supplies, equipment, construction, and services by recipients and by sub-recipients, the conflict of interest provisions in 2 CFR 200.318 apply.

Requirements

• Non-Federal entities must avoid prohibited conflicts of interest, including any significant financial interests that could cause a reasonable person to question the recipient's ability to provide impartial, technically sound, and objective performance under or with respect to a Federal financial assistance agreement.

• In addition to any other prohibitions that may apply with respect to conflicts of interest, no key official of an actual or proposed recipient or sub-recipient, who is substantially involved in the proposal or project, may have been a former Federal employee who, within the last one (1) year, participated personally and substantially in the evaluation, award, or administration of an award with respect to that recipient or sub-recipient or in development of the requirement leading to the funding announcement.

• No actual or prospective recipient or sub-recipient may solicit, obtain, or use non-public information regarding the evaluation, award, administration of an award to that recipient or sub-recipient or the development of a Federal financial assistance opportunity that may be of competitive interest to that recipient or sub-recipient.

Notification

• Non-Federal entities, including applicants for financial assistance awards, must disclose in writing any conflict of interest to the DOI awarding agency or pass-through entity in accordance with 2 CFR 200.112, Conflicts of Interest.

• Recipients must establish internal controls that include, at a minimum, procedures to identify, disclose, and mitigate or eliminate identified conflicts of interest. The recipient is responsible for notifying the Financial Assistance Officer in writing of any conflicts of interest that may arise during the life of the award, including those that have been reported by sub-recipients.

• Restrictions on Lobbying. Non-Federal entities are strictly prohibited from using funds under this grant or cooperative agreement for lobbying activities and must provide the required certifications and disclosures pursuant to 43 CFR part 18 and 31 U.S.C. 1352.

• Review Procedures. The Financial Assistance Officer will examine each conflict of interest disclosure on the basis of its particular facts and the nature of the proposed grant or cooperative agreement, and will determine whether a significant potential conflict exists and, if it does, develop an appropriate means for resolving it.

• Enforcement. Failure to resolve conflicts of interest in a manner that satisfies the Government may be cause for termination of the award. Failure to make the required disclosures may result in any of the remedies described in 2 CFR 200.338, Remedies for Noncompliance, including suspension or debarment (see also 2 CFR part 180).

Data Availability

• Applicability. The Department of the Interior is committed to basing its decisions on the best available science and providing the American people with enough information to thoughtfully and substantively evaluate the data, methodology, and analysis used by the Department to inform its decisions.

• Use of Data. The regulations at 2 CFR 200.315 apply to data produced under a Federal award, including the provision that the Federal Government has the right to obtain, reproduce, publish, or otherwise use the data produced under a Federal award as well as authorize others to receive, reproduce, publish, or otherwise use such data for Federal purposes.

• Availability of Data. The recipient shall make the data produced under this award and any subaward(s) available to the Government for public release, consistent with applicable law, to allow meaningful third-party evaluation and reproduction of the following:

○ The scientific data relied upon;

○ The analysis relied upon; and

○ The methodology, including models, used to gather and analyze data.

XVI. Questions and Requests for OIED Assistance. Technical consultation from OIED may include clarifying application requirements, confirming whether an applicant previously submitted the same or similar proposal, and registration information for SAM or ASAP. Technical assistance will be provided by the OIED contractor, Tribal Tech. The applicant is solely responsible for the preparation of its grant proposal. All eligible applicants will have access to scheduled training and can request assistance from the pre-application phase through the post-award close-out. It is strongly recommended that any assistance be a consolidation of items based off reasonably completed working drafts. Please complete an in-take form with Tribal Tech to request assistance: https://app.smartsheet.com/b/publish?EQBCT=98a8ecfd0f3d452693e589c6a0a678d8.

XVII. Paperwork Reduction Act: The information collection requirements contained in this notice have been reviewed and approved by the Office of Management and Budget (OMB) under the Paperwork Reduction Act, 44 U.S.C. 3504(h). The OMB control number is 4040-0004. The authorization expires on December 31, 2022. An agency may not conduct or sponsor, and you are not required to respond to, any information collection that does not display a currently valid OMB Control Number.

XVIII. Authority: This is a discretionary grant program authorized under the Snyder Act (25 U.S.C. 13) and the Consolidated Appropriations Act, 2022 (HR 2471-312). The Snyder Act authorizes the BIA to expend such moneys as Congress may appropriate for the benefit, care, and assistance of Indians for the purposes listed in the Act. NABDI grants facilitate two of the purposes listed in the Snyder Act: “General support and civilization, including education” and “industrial assistance and advancement.” The Consolidated Appropriations Act 2022 (HR 2471-312) authorizes the BIA “for expenses necessary for the operation of Indian programs, as authorized by law, including the Snyder Act of November 2, 1921 (25 U.S.C. 13) . . .”.

Bryan Newland,
Assistant Secretary—Indian Affairs.

[FR Doc. 2022-08735 Filed 4-22-22; 8:45 am]

BILLING CODE 4337-15-P